FEDERAL COMMUNICATIONS COMMISSION

[FR ID 114675]

Radio Broadcasting Services; AM or FM Proposals To Change the Community of License

AGENCY: Federal Communications Commission.

ACTION: Notice.

DATES: The agency must receive comments on or before January 27, 2023.

ADDRESSES: Federal Communications Commission, 45 L Street NE, Washington, DC 20554.

FOR FURTHER INFORMATION CONTACT: Rolanda F. Smith, 202-418-2054.

SUPPLEMENTARY INFORMATION: The following applicants filed AM or FM proposals to change the community of license: NEBRASKA RURAL RADIO ASSOCIATION, KOLT(AM), Fac. ID. No. 67472, FROM TERRYTOWN, NE, TO LEXINGTON, NE, File No. BMP-20220907AAE; ROGER WRIGHT DBA PROSPECT COMMUNICATIONS, WWLX(AM), Fac. ID No. 53665, FROM LAWRENCEBURG, TN, TO LORETTO, TN, File No. BP-20221026AAE; MARIA ELENA JUAREZ, KRXR(AM), Fac. ID No. 2805, FROM GOODING, ID, TO FILER, ID, File No. BMP-20221114AAA; CHRISTIAN MINISTRIES OF THE VALLEY, INC., KABV(FM), Fac. ID No. 762470, FROM PREMONT, TX, TO BEN BOLT, TX, File No. 0000203091; ALBERT BENAVIDES, KAMZ(FM), Fac. ID No. 77643, FROM TAHOKA, TX, TO ROPESVILLE, TX, File No. 0000200878; QXZ MEDIAWORKS LLC, KQXZ(FM), Fac. ID No. 762373, FROM RICHLAND SPRINGS, TX, TO ADAMSVILLE, TX, File No. 0000199020; RADIO BY GRACE, INC., WKIH(FM), Fac. ID No. 172182, FROM VIDALIA, GA, TO TWIN CITY, GA, File No. 0000202985; WILLIAM WALTER MCCUTCHEN, KSZX(FM), Fac. ID No. 190385, FROM SANTA ANNA, TX, TO MENARD, TX, File No. 0000203633; and TRACY MCCUTCHEN, KTCY(FM), Fac. ID No. 189553, FROM MENARD, TX, TO WALL, TX, File No. 0000203634. The full text of these applications is available electronically via the Licensing and Management System (LMS), https://apps2int.fcc.gov/dataentry/public/tv/publicAppSearch.html.

Federal Communications Commission.
Nazifa Sawez,
Assistant Chief, Audio Division, Media Bureau.

[FR Doc. 2022-25832 Filed 11-25-22; 8:45 am]

BILLING CODE 6712-01-P